DEPARTMENT OF TRANSPORTATION

Federal Aviation Administration

14 CFR Part 71

[Docket No. FAA-2023-2315; Airspace Docket No. 22-AEA-26]

RIN 2120-AA66

Amendment and Revocation of Multiple Air Traffic Service (ATS) Routes; Eastern United States

AGENCY: Federal Aviation Administration (FAA), DOT.

ACTION: Notice of proposed rulemaking (NPRM).

SUMMARY: This action proposes to amend three Very High Frequency Omnidirectional Range (VOR) Federal airways and two United States Area Navigation (RNAV) routes; and to revoke two VOR Federal airways and three jet routes in the eastern United States. The FAA is taking this action due to the planned decommissioning of the Elmira, NY (ULW), VOR/Distance Measuring Equipment (VOR/DME). This action is in support of the FAA's VOR Minimum Operational Network (MON) Program.

DATES: Comments must be received on or before March 1, 2024.

ADDRESSES: Send comments identified by FAA Docket No. FAA-2023-2315 and Airspace Docket No. 22-AEA-26 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FAA Order JO 7400.11H, Airspace Designations and Reporting Points, and subsequent amendments can be viewed online at www.faa.gov/air_traffic/publications/. You may also contact the Rules and Regulations Group, Office of Policy, Federal Aviation Administration, 800 Independence Avenue SW, Washington DC 20591; telephone: (202) 267-8783.

FOR FURTHER INFORMATION CONTACT: Brian Vidis, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the route structure as necessary to preserve the safe and efficient flow of air traffic within the National Airspace System (NAS).

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received and any final disposition in person in the Dockets Operations office (see ADDRESSES section for address, phone number, and hours of operations). An informal docket may also be examined during normal business hours at the office of the Eastern Service Center, Federal Aviation Administration, Room 210, 1701 Columbia Avenue, College Park, GA, 30337.

Incorporation by Reference

Jet Routes are published in paragraph 2004, Domestic VOR Federal Airways are published in paragraph 6010(a), and United States Area Navigation Routes are published in paragraph 6011 of FAA Order JO 7400.11, Airspace Designations and Reporting Points, which is incorporated by reference in 14 CFR 71.1 on an annual basis. This document proposes to amend the current version of that order, FAA Order JO 7400.11H, dated August 11, 2023, and effective September 15, 2023. These updates would be published in the next update to FAA Order JO 7400.11. That order is publicly available as listed in the ADDRESSES section of this document.

FAA Order JO 7400.11H lists Class A, B, C, D, and E airspace areas, air traffic service routes, and reporting points.

Background

The FAA is planning to decommission the Elmira, NY (ULW), VOR/Distance Measuring Equipment (VOR/DME) in September 2024. The Elmira VOR/DME was a candidate Navigational Aid (NAVAID) identified for discontinuance by the FAA's VOR MON program and listed in the Final policy statement notice, “Provision of Navigation Services for the Next Generation Air Transportation System (NextGen) Transition to Performance-Based Navigation (PBN) (Plan for Establishing a VOR Minimum Operational Network),” published in the Federal Register of July 26, 2016 (81 FR 48694), Docket No. FAA-2011-1082.

The Air Traffic Service (ATS) routes affected by the planned Elmira VOR/DME decommissioning are Jet Routes J-132, J-223, and J-227; VOR Federal Airways V-35, V-36, V-147, and V-270; and RNAV Routes T-440 and T-445. With the planned decommissioning of the Elmira VOR/DME, the remaining ground-based NAVAID coverage in the area is insufficient to enable the continuity of the affected ATS routes. As such, proposed modifications to V-35 and V-270 would result in the airways being shortened; to V-147 would result in a gap being created; and to J-132, J-223, J-227, and V-36 would result in the airways being revoked.

To overcome the proposed modifications to the affected routes, instrument flight rules (IFR) traffic could receive air traffic control (ATC) radar vectors to fly through or circumnavigate the affected area. Additionally, IFR pilots with Area Navigation (RNAV) equipped aircraft could also use the adjacent RNAV Routes T-440 and T-445, proposed in this action or navigate point-to-point using the existing fixes that will remain in place to support continued operations though the affected area. Visual flight rules (VFR) pilots who elect to navigate via airways through the affected area could also take advantage of ATC services listed previously.

Prior to this NPRM, the FAA published a final rule for airspace docket 23-AGL-17 in the Federal Register (88 FR 65311; September 22, 2023) amending VOR Federal Airway V-36 by removing the airway segment between the Thunder Bay, Ontario (ON), Canada VOR/DME and the Sault Ste Marie, MI, VOR/DME. The effective date for that action was November 30, 2023. Subsequent to the final rule, the FAA published a final rule, delay of effective date in the Federal Register (88 FR 71990; October 19, 2023) delaying the effective date to March 21, 2024. That airway amendment, effective March 21, 2024, is included in this action.

The Proposal

The FAA is proposing an amendment to 14 CFR part 71 to amend VOR Federal Airways V-35, V-147, and V-270; to amend RNAV Routes T-440 and T-445; and to revoke VOR Federal Airway V-36 and Jet Routes J-132, J-223, and J-227. The proposed changes are due to the scheduled decommissioning of the Elmira VOR/DME. The proposed ATS route changes are described below.

J-132: J-132 currently extends between the Elmira, NY (ULW), VOR/DME and the Huguenot, NY (HUO), VOR/DME. The FAA proposes to remove this route in its entirety.

J-223: J-223 currently extends between the La Guardia, NY (LGA), VOR/DME and the intersection of the La Guardia VOR/DME 310° and Elmira, NY (ULW), VOR/DME 110° radials (CORDS Fix). The FAA proposes to remove this route in its entirety.

J-227: J-227 currently extends between the Armel, VA (AML), VOR/DME and the Elmira, NY (ULW), VOR/DME. The FAA proposes to remove this route in its entirety.

V-35: V-35 currently extends between the Dolphin, FL (DHP), VOR/Tactical Air Navigation (VORTAC) and the Pecan, GA (PZD), VOR/DME; between the intersection of the Dublin, GA (DBN), VORTAC 309° and the Athens, GA (AHN), VOR/DME 195° radials (SINCA Fix) and the Morgantown, WV (MGW), VOR/DME; and between the Philipsburg, PA (PSB), VORTAC and the Syracuse, NY (SYR), VORTAC. The FAA proposes to remove the route segments between the Stonyfork, PA (SFK), VOR/DME and the Syracuse VORTAC. As amended, the route would extend between the Dolphin VORTAC and the Pecan VOR/DME, between the SINCA Fix and the Morgantown VOR/DME, and between the Philipsburg VORTAC and the Stonyfork VOR/DME.

V-36: V-36 currently extends between the Elmira, NY (ULW), VOR/DME and the intersection of the La Guardia, NY (LGA), VOR/DME 310° and the Stillwater, NJ (STW), VOR/DME 043° radials. The FAA proposes to remove the route in its entirety.

V-147: V-147 currently extends between the Yardley, PA (ARD), VOR/DME and the Rochester, NY (ROC), VOR/DME. The FAA proposes to remove the route segments between the Wilkes-Barre, PA (LVZ), VORTAC and the Geneseo, NY (GEE), VOR/DME. As amended, the route would extend between the Yardley VOR/DME and the Wilkes-Barre VORTAC, and between the Geneseo VOR/DME and the Rochester VOR/DME.

V-270: V-270 currently extends between the Elmira, NY (ULW), VOR/DME and the Boston, MA (BOS), VOR/DME. The FAA proposes to remove the route segment between the Elmira VOR/DME and the Binghamton, NY (CFB), VOR/DME. Additionally, the FAA proposes to remove the Delancey, NY (DNY), VOR/DME from the route and replace it with the intersection of the Binghamton VOR/DME 088° True (T)/098° Magnetic (M) and the Sparta, NJ (SAX), VORTAC 344° T/355° M radials (DANZI Fix). Replacement of the Delancey VOR/DME with the DANZI Fix would provide continued connection to other ATS routes in the route structure. As amended, the route would extend between the Binghamton VOR/DME and the Boston VOR/DME.

T-440: T-440 currently extends between the Elmira, NY (ULW), VOR/DME and the TALLI, PA, Fix. The FAA proposes to remove the Elmira VOR/DME and replace it with the STUBN, NY, WP which is located 60 feet southeast of the Elmira VOR/DME. The amended RNAV route would mitigate the proposed V-147 airway segment removal and provide route continuity. As amended, the route would extend between the STUBN WP and the TALLI Fix.

T-445: T-445 currently extends between the Harrisburg, PA (HAR), VORTAC and the AIRCO, NY, Fix. The FAA proposes to remove the Elmira, NY (ULW), VOR/DME and replace it with the STUBN, NY, WP which is located 60 feet southeast of the Elmira VOR/DME. As amended, the route would continue to extend between the Harrisburg VORTAC and the AIRCO Fix.

The NAVAID radials listed in the VOR Federal airway descriptions in the proposed regulatory text of this NPRM are unchanged and stated in degrees True north.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11H, Airspace Designations and Reporting Points, dated August 11, 2023, and effective September 15, 2023, is amended as follows:

Paragraph 2004 Jet Routes.

* * * * *

J-132 [Removed]

* * * * *

J-223 [Removed]

* * * * *

J-227 [Removed]

* * * * *

Paragraph 6010(a) Domestic VOR Federal Airways.

* * * * *

V-35 [Amended]

From Dolphin, FL; INT Dolphin 266° and Cypress, FL, 110° radials; INT Cypress 110° and Lee County, FL, 138° radials; Lee County; INT Lee County 326° and St. Petersburg, FL, 152° radials; St. Petersburg; INT St. Petersburg 350° and Cross City, FL, 168° radials; Cross City; Greenville, FL; to Pecan, GA. From INT Dublin, GA, 309° and Athens, GA, 195° radials; Athens; Electric City, SC; Sugarloaf Mountain, NC; Holston Mountain, TN; Glade Spring, VA; Charleston, WV; INT Charleston 051° and Elkins, WV, 264° radials; Clarksburg, WV; to Morgantown, WV. From Philipsburg, PA; to Stonyfork, PA.

V-36 [Removed]

* * * * *

V-147 [Amended]

From Yardley, PA; INT Yardley 294° and East Texas, PA, 124° radials; East Texas; to Wilkes-Barre, PA. From Geneseo, NY; to Rochester, NY.

* * * * *

V-270 [Amended]

From Binghamton, NY; INT Binghamton 088°T/098°M and Sparta, NJ, 344°T/355°M radials; Chester, MA; INT Chester 091° and Boston, MA, 262° radials; to Boston.

* * * * *

Paragraph 6011 United States Area Navigation Routes.

* * * * *

T-440 STUBN, NY to TALLI, PA [Amended]
STUBN, NY | WP | (Lat. 42°05′38.58″ N, long. 077°01′28.68″ W)
WLKES, PA | W | (Lat. 41°16′22.57″ N, long. 075°41′21.60″ W)
TALLI, PA | FIX | (Lat. 41°19′01.60″ N, long. 075°06′43.17″ W)

* * * * *

T-445 Harrisburg, PA (HAR) to AIRCO, NY [Amended]
Harrisburg, PA (HAR) | VORTAC | (Lat. 40°18′08.06″ N, long. 077°04′10.41″ W)
Selinsgrove, PA (SEG) | VOR/DME | (Lat. 40°47′27.09″ N, long. 076°53′02.55″ W)
LYKOM, PA | WP | (Lat. 41°20′18.75″ N, long. 076°46′30.30″ W)
STUBN NY | WP | (Lat. 42°05′38.58″ N, long. 077°01′28.68″ W)
BEEPS, NY | FIX | (Lat. 42°49′13.26″ N, long. 076°59′04.84″ W)
Rochester, NY (ROC) | VOR/DME | (Lat. 43°07′04.65″ N, long. 077°40′22.06″ W)
AIRCO, NY | FIX | (Lat. 43°12′36.66″ N, long. 078°28′57.00″ W)

* * * * *

Issued in Washington, DC, on January 8, 2024.
Frank Lias,
Manager, Rules and Regulations Group.

[FR Doc. 2024-00547 Filed 1-12-24; 8:45 am]

BILLING CODE 4910-13-P